ENVIRONMENTAL PROTECTION AGENCY

[ER-FRL-9022-7]

Environmental Impact Statements; Notice of Availability

Responsible Agency: Office of Federal Activities, General Information (202) 564-7146 or http://www2.epa.gov/nepa.

Weekly receipt of Environmental Impact Statements (EISs).

Filed 08/24/2015 Through 08/28/2015.

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20150245, Third Draft Supplemental, BOEM, TX, Gulf of Mexico OCS Oil and Gas Lease Sale 248, Comment Period Ends: 10/19/2015, Contact: Michelle Nannen 504-731-6682.

EIS No. 20150246, Final, FHWA, IA, Eastern Hills Drive and Connecting Roadways, Review Period Ends: 10/05/2015, Contact: Michael La Pietra 515-233-7302.

EIS No. 20150247, Final, USN, CA, LEGISLATIVE—Renewal of Naval Air Weapons Station China Lake Public Land Withdrawal, Review Period Ends: 10/05/2015, Contact: Teresa Bresler 619-532-4452.

EIS No. 20150248, Draft, USAF, AK, United States Air Force F-35A Operational Beddown—Pacific, Comment Period Ends: 10/19/2015, Contact: Toni Ristau 907-377-2116.

EIS No. 20150249, Final Supplement, BOEM, LA, Gulf of Mexico OCS Oil and Gas Lease Sales: 2016 and 2017, Central Planning Area Lease Sales 241 and 247, Eastern Planning Area Lease Sale 226, Review Period Ends: 10/05/2015, Contact: Gary D. Goeke 504-736-3233.

EIS No. 20150250, Draft, USFS, WV, 2016-2020 Fernow Experimental Forest, Comment Period Ends: 10/19/2015, Contact: Thomas M. Schuler 304-478-2000.

EIS No. 20150251, Draft, NOAA, USFWS, MI, PROGRAMMATIC—Restoration Resulting from the Kalamazoo River Natural Resource Damage Assessment, Comment Period Ends: 10/19/2015, Contact: Julie Sims 734-741-2385. The U.S. Department of the Interior's Fish and Wildlife Service and the U.S. Department of Commerce's National Oceanic and Atmospheric Administration are joint lead agencies for the above project.

EIS No. 20150252, Final, USFWS, CO, Rocky Mountain Arsenal National Wildlife Refuge, Review Period Ends: 10/05/2015, Contact: Bernardo Garza 303-236-4377.

Amended Notices

EIS No. 20150177, Draft, NHTSA, REG, Phase 2 Fuel Efficiency Standards for Medium- and Heavy-Duty Engines and Vehicles, Comment Period Ends: 10/01/2015, Contact: James MacIsaac 202-366-9108 Revision to the FR Notice Published 06/26/2015; Extending the Comment Period from 08/31/2015 to 10/01/2015.

Dated: September 1, 2015.
Karin Leff,
Acting Director, NEPA Compliance Division, Office of Federal Activities.

[FR Doc. 2015-22019 Filed 9-3-15; 8:45 am]

BILLING CODE 6560-50-P